DEPARTMENT OF ENERGY

Federal Energy Regulatory Commission

Combined Notice of Filings #1

Take notice that the Commission received the following electric rate filings:

Docket Numbers: ER10-1107-003.

Applicants: Pacific Gas and Electric Company.

Description: Notice of Non-Material Change in Status of Pacific Gas and Electric Company.

Filed Date: 5/31/13.

Accession Number: 20130531-5389.

Comments Due: 5 p.m. ET 6/21/13.

Docket Numbers: ER13-1552-001.

Applicants: Midcontinent Independent System Operator, Inc.

Description: 2013-05-31 Name Change Errata Filing to be effective 6/1/2013.

Filed Date: 5/31/13.

Accession Number: 20130531-5276.

Comments Due: 5 p.m. ET 6/21/13.

Docket Numbers: ER13-1610-000.

Applicants: Arlington Valley, LLC.

Description: Clarification of Category 1 Status in Regions Outside the Southwest Region to be effective 6/1/2013.

Filed Date: 5/31/13.

Accession Number: 20130531-5332.

Comments Due: 5 p.m. ET 6/21/13.

Docket Numbers: ER13-1611-000.

Applicants: Griffith Energy LLC.

Description: Clarification of Category 1 Status in Regions Outside the Southwest Region to be effective 6/1/2013.

Filed Date: 5/31/13.

Accession Number: 20130531-5333.

Comments Due: 5 p.m. ET 6/21/13.

Docket Numbers: ER13-1612-000.

Applicants: Arizona Public Service Company.

Description: PacifiCorp Reciprocal Transmission Service Agreement, Rate Schedule No. 183 to be effective 8/1/2013.

Filed Date: 5/31/13.

Accession Number: 20130531-5335.

Comments Due: 5 p.m. ET 6/21/13.

Docket Numbers: ER13-1613-000.

Applicants: Brookfield White Pine Hydro LLC.

Description: White Pine Notice of Succession to be effective 5/31/2013.

Filed Date: 5/31/13.

Accession Number: 20130531-5342.

Comments Due: 5 p.m. ET 6/21/13.

Docket Numbers: ER13-1614-000.

Applicants: Black Hills Power, Inc.

Description: WestConnect Regional Transmission Tariff to be effective 7/1/2013.

Filed Date: 5/31/13.

Accession Number: 20130531-5343.

Comments Due: 5 p.m. ET 6/21/13.

Docket Numbers: ER13-1615-000.

Applicants: Black Hills/Colorado Electric Utility Company, LP.

Description: WestConnect Regional Transmission Tariff to be effective 7/1/2013.

Filed Date: 5/31/13.

Accession Number: 20130531-5350.

Comments Due: 5 p.m. ET 6/21/13.

Docket Numbers: ER13-1616-000.

Applicants: New England Power Pool Participants Committee.

Description: June 2013 Membership Filing to be effective 5/1/2013.

Filed Date: 5/31/13.

Accession Number: 20130531-5351.

Comments Due: 5 p.m. ET 6/21/13.

Docket Numbers: ER13-1617-000.

Applicants: PJM Interconnection, L.L.C.

Description: Notice of Cancellation of SA Nos. 3313 and 1410 to be effective 5/31/2013.

Filed Date: 5/31/13.

Accession Number: 20130531-5352.

Comments Due: 5 p.m. ET 6/21/13.

Docket Numbers: ER13-1618-000.

Applicants: The Narragansett Electric Company.

Description: Interconnection Agreement Between Narragansett Electric Co. and Thundermist to be effective 7/31/2013.

Filed Date: 5/31/13.

Accession Number: 20130531-5354.

Comments Due: 5 p.m. ET 6/21/13.

Docket Numbers: ER13-1619-000.

Applicants: PJM Interconnection, L.L.C.

Description: Queue Position No. U2-077 & W1-001? Original Service Agreement No. 3579 to be effective 5/31/2013.

Filed Date: 5/31/13.

Accession Number: 20130531-5355.

Comments Due: 5 p.m. ET 6/21/13.

Docket Numbers: ER13-1620-000.

Applicants: Entergy Arkansas, Inc.

Description: LaGen NITSA to be effective 6/1/2013.

Filed Date: 6/3/13.

Accession Number: 20130603-5000.

Comments Due: 5 p.m. ET 6/24/13.

Docket Numbers: ER13-1621-000.

Applicants: Entergy Arkansas, Inc.

Description: EWOM Fifth Rev. NITSA to be effective 5/1/2013.

Filed Date: 6/3/13.

Accession Number: 20130603-5001.

Comments Due: 5 p.m. ET 6/24/13.

Docket Numbers: ER13-1622-000.

Applicants: Southwestern Electric Power Company.

Description: Accounting updates re CWIP expenditures and projection of Southwestern Electric Power Company.

Filed Date: 5/31/13.

Accession Number: 20130531-5356.

Comments Due: 5 p.m. ET 6/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 3, 2013.
Nathaniel J. Davis, Sr.,
Deputy Secretary.

[FR Doc. 2013-13645 Filed 6-7-13; 8:45 am]

BILLING CODE 6717-01-P